DEPARTMENT OF ENERGY

Federal Energy Regulatory Commission

Combined Notice of Filings #1

Take notice that the Commission received the following electric corporate filings:

Docket Numbers: EC15-73-000.

Applicants: Bayonne Energy Center, LLC, Zone J Tolling Co., LLC.

Description: Application for Authorization for Disposition of Jurisdictional Facilities and Request for Expedited Action of Bayonne Energy Center, LLC, et. al.

Filed Date: 2/12/15.

Accession Number: 20150212-5127.

Comments Due: 5 p.m. ET 3/5/15.

Take notice that the Commission received the following electric rate filings:

Docket Numbers: ER10-1908-009; ER10-1909-009; ER10-1910-009;ER10-1911-009.

Applicants: Duquesne Keystone, LLC, Duquesne Light Company, Duquesne Power, LLC, Duquesne Conemaugh, LLC.

Description: Notice of Non-Material Change in Status of the Duquesne MBR Sellers.

Filed Date: 2/12/15.

Accession Number: 20150212-5078.

Comments Due: 5 p.m. ET 3/5/15.

Docket Numbers: ER10-2808-002.

Applicants: Freeport-McMoran Copper & Gold Energy Services, LLC.

Description: Notice of Non-Material Change in Status of Freeport-McMoran Copper & Gold Energy Services, LLC.

Filed Date: 2/11/15.

Accession Number: 20150211-5270.

Comments Due: 5 p.m. ET 3/4/15.

Docket Numbers: ER10-2964-005; ER11-2041-005; ER11-2042-005; ER10-3193-004.

Applicants: Innovative Energy Systems, LLC, Seneca Energy II, LLC, Selkirk Cogen Partners, L.P., Brooklyn Navy Yard Cogeneration Partners, L.P.

Description: Second Supplement to June 30, 2014 Order No. 697 Triennial Compliance Filing of Selkirk Cogen Partners, L.P., et. al.

Filed Date: 2/11/15.

Accession Number: 20150211-5271.

Comments Due: 5 p.m. ET 2/23/15.

Docket Numbers: ER12-673-006; ER12-672-006; ER12-674-007; ER12-670-007; ER10-2374-008; ER10-1533-010.

Applicants: Brea Generation LLC, Brea Power II, LLC, Macquarie Energy LLC, Puget Sound Energy, Inc., Rhode Island Engine Genco, LLC, Rhode Island LFG Genco, LLC.

Description: Notice of Non-Material Change in Status of Brea Generation LLC, et. al.

Filed Date: 2/12/15.

Accession Number: 20150212-5081.

Comments Due: 5 p.m. ET 3/5/15.

Docket Numbers: ER14-2657-001.

Applicants: El Paso Electric Company.

Description: Compliance filing per 35: Compliance Filing with Jan 12, 2015 Order in ER14-2657-000 to be effective 10/13/2014.

Filed Date: 2/11/15.

Accession Number: 20150211-5232.

Comments Due: 5 p.m. ET 3/4/15.

Docket Numbers: ER14-2711-000.

Applicants: Midcontinent Independent System Operator, Inc.

Description: Report Filing: 2015-02-12_Order 719 Supplement the Record to be effective N/A.

Filed Date: 2/12/15.

Accession Number: 20150212-5149.

Comments Due: 5 p.m. ET 3/5/15.

Docket Numbers: ER15-743-001.

Applicants: Appalachian Power Company.

Description: Tariff Amendment per 35.17(b): OATT—Revise Attachments K & L, TCC & TNC Rate Update Amendment to be effective 12/29/2014.

Filed Date: 2/11/15.

Accession Number: 20150211-5237.

Comments Due: 5 p.m. ET 3/4/15.

Docket Numbers: ER15-1026-000.

Applicants: Utah Red Hills Renewable Park, LLC.

Description: Initial rate filing per 35.12 Application for Market-Based Rate Authorization to be effective 5/1/2015.

Filed Date: 2/11/15.

Accession Number: 20150211-5266.

Comments Due: 5 p.m. ET 3/4/15.

Docket Numbers: ER15-1027-000.

Applicants: Southwest Power Pool, Inc.

Description: Section 205(d) rate filing per 35.13(a)(2)(iii): 2965 SWEPCO/Rayburn Country Elec Coop/ETEC Interconnect Agr. to be effective 4/13/2015.

Filed Date: 2/12/15.

Accession Number: 20150212-5055.

Comments Due: 5 p.m. ET 3/5/15.

Docket Numbers: ER15-1028-000.

Applicants: California Independent System Operator Corporation.

Description: Section 205(d) rate filing per 35.13(a)(2)(iii): 2015-02-12_AguaCalienteLGIAConcurrence to be effective 10/21/2014.

Filed Date: 2/12/15.

Accession Number: 20150212-5062.

Comments Due: 5 p.m. ET 3/5/15.

Docket Numbers: ER15-1029-000.

Applicants: Chubu TT Energy Management Inc.

Description: Initial rate filing per 35.12 Chubu TT MBRA Application to be effective 4/15/2015.

Filed Date: 2/12/15.

Accession Number: 20150212-5086.

Comments Due: 5 p.m. ET 3/5/15.

Docket Numbers: ER15-1030-000.

Applicants: PJM Interconnection, L.L.C.

Description: Section 205(d) rate filing per 35.13(a)(2)(iii): Service Agreement No. 3058; Queue Nos. U2-073/Z2-013 to be effective 1/13/2015.

Filed Date: 2/12/15.

Accession Number: 20150212-5120.

Comments Due: 5 p.m. ET 3/5/15.

Docket Numbers: ER15-1031-000.

Applicants: PJM Interconnection, L.L.C.

Description: Section 205(d) rate filing per 35.13(a)(2)(iii): Original Service Agreement No. 4086; Queue Position Y3-037 to be effective 1/13/2015.

Filed Date: 2/12/15.

Accession Number: 20150212-5130.

Comments Due: 5 p.m. ET 3/5/15.

Docket Numbers: ER15-1032-000.

Applicants: Midcontinent Independent System Operator.

Description: Section 205(d) rate filing per 35.13(a)(2)(iii): 2015-02-12_SA 1519 MDU-Tatanka 5th Rev. GIA (G132/J249) to be effective 2/13/2015.

Filed Date: 2/12/15.

Accession Number: 20150212-5147.

Comments Due: 5 p.m. ET 3/5/15.

Take notice that the Commission received the following PURPA 210(m)(3) filings:

Docket Numbers: QM15-1-000.

Applicants: Virginia Electric and Power Company.

Description: Motion for Leave to Answer and Answer to Community Energy Solar, LLC, LLC, Community Energy Renewables, LLC and Nine Affiliated Entities January 14, 2015 Answer, of Virginia Electric and Power Company.

Filed Date: 2/11/15.

Accession Number: 20150211-5272.

Comments Due: 5 p.m. ET 3/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2015.
Nathaniel J. Davis, Sr.,
Deputy Secretary.

[FR Doc. 2015-03442 Filed 2-18-15; 8:45 am]

BILLING CODE 6717-01-P